DEPARTMENT OF ENERGY

Federal Energy Regulatory Commission

[Docket No. EY05-95-20-001, RM01-10-000, and EY05-13-001]

Standards of Conduct for Transmission Providers; Entergy Services, Inc.; Notice Granting Extension of Waiver of Recordkeeping Requirements

October 7, 2005.

Due to the emergency conditions in Louisiana and Texas created by Hurricane Rita, on September 23, 2005, the Commission issued a notice that, among other things, allowed affected transmission providers to delay, until October 7, 2005, compliance with the requirement of section 358.4(a)(2) of the Commission's regulations, 18 CFR 358.4(a)(2)(2005), to report to the Commission and post on the OASIS or Internet Web site, as applicable, each emergency that resulted in any deviation from the standards of conduct.¹ Due to the extreme nature of the emergency, the Commission also waived, until October 7, 2005, the requirements to record and retain a record of each deviation of the standards of conduct.² The notice added that the Commission would consider extending the waiver if it continued to be needed after October 7, 2005. The Commission had previously granted similar waivers due to Hurricane Katrina.³

¹ Notice Granting Extension of Time To Comply With Posting and Other Requirements, Standards of Conduct for Transmission Providers, Docket Nos. EY05-20-000, et al. (September 23, 2005).

² Id.

³ Notice Granting Extension of Time To Comply With Posting and Other Requirements, Standards of Conduct for Transmission Providers, Docket Nos. EY05-14-000, et al. (August 31, 2005); Notice Waiving Recordkeeping Requirements, Standards of Conduct for Transmission Providers, Docket Nos. EY05-14-001, et al. (September 7, 2005).

Entergy Services, Inc., on behalf of Entergy Operating Companies, seeks a two-week extension, through October 21, 2005, of the waiver of the requirement that Entergy record a log of each individual deviation from the standards of conduct associated with the information sharing and joint operations activities necessitated by the hurricanes. It explains that in the area impacted by Hurricane Rita, five of its fossil-fueled units remain off-line, approximately 106 transmission lines and 70 substations are out of service, and Entergy's transmission system in Texas remains largely isolated from the rest of Entergy's system. In addition, in the City of New Orleans and the Amite-South area, Entergy continues to experience emergency circumstances affecting system reliability as a result of Hurricane Katrina. These circumstances, according to Entergy, require detailed communication, coordination and joint operations among Entergy's transmission and merchant units on virtually an hourly basis and the requirement to log each individual deviation would be an extremely burdensome task that would complicate Entergy's restoration operation. Entergy proposes to limit the application of the waiver to deviations associated with information sharing and joint operations activities necessitated by Hurricanes Rita and Katrina, but would not apply the waiver to deviations from standard OATT practices.

The Commission grants Entergy's request for this limited waiver under these emergency circumstances.

Magalie R. Salas,
Secretary.

[FR Doc. E5-5703 Filed 10-14-05; 8:45 am]

BILLING CODE 6717-01-P